DEPARTMENT OF THE INTERIOR

Bureau of Land Management

[LLORW00000.L10200000.ML0000.LXSSEWRA0000.16XL1109AF.HAG16-0027]

Notice of Public Meeting for the Eastern Washington Resource Advisory Council

AGENCY: Bureau of Land Management, Interior.

ACTION: Notice of public meeting.

SUMMARY: In accordance with the Federal Land Policy and Management Act and the Federal Advisory Committee Act of 1972, and the U.S. Department of the Interior, Bureau of Land Management (BLM), the Eastern Washington Resource Advisory Council (RAC) will meet as indicated below:

DATES: The Eastern Washington RAC will hold a public meeting Thursday, Nov. 5, 2015. The meeting will run from 9:00 a.m. to 4:30 p.m. The meeting will be held at the Holiday Inn in Yakima, Washington, and will include a field trip to the Yakima River Canyon. A public comment period will be available in the afternoon.

FOR FURTHER INFORMATION CONTACT: Jeff Clark, Public Affairs Specialist, BLM Spokane District Office, 1103 N. Fancher Rd., Spokane, Washington 99212, (509) 536-1297, or email jeffclark@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The Eastern Washington RAC consists of 15 members chartered and appointed by the Secretary of the Interior. Their diverse perspectives are represented in commodity, conservation, and general interests. They provide advice to BLM resource managers regarding management plans and proposed resource actions on public land in central and eastern Washington.

Agenda items for the November 2015 meeting include a field tour of the Yakima River Canyon Recreation Area, an update on the Eastern Washington Resource Management Plan, a presentation of the business plan for a fee season extension for the Yakima River Canyon, committee and member updates, and any other matters that may reasonably come before the RAC. This meeting is open to the public in its entirety; however, transportation during the field tour portion of the meeting on Nov. 5 will not be provided to members of the public. Information to be distributed to the Eastern Washington RAC is requested prior to the start of each meeting. A public comment period will be available on Nov. 5, 2015, at 3:30 p.m. Unless otherwise approved by the Eastern Washington RAC Chair, the public comment period will last no longer than 30 minutes. Each speaker may address the RAC for a maximum of 5 minutes. Meeting times and the duration scheduled for public comment periods may be extended or altered when the authorized representative considers it necessary to accommodate business and all who seek to be heard regarding matters before the Eastern Washington RAC.

Dennis Strange,
Spokane District Manager.

[FR Doc. 2015-26978 Filed 10-22-15; 8:45 am]

BILLING CODE 4310-33-P